DEPARTMENT OF ENERGY

Federal Energy Regulatory Commission

[Docket No. CP07-367-005]

Columbia Gas Transmission, LLC; Notice of Application

February 11, 2009.

Take notice that on February 10, 2009, Columbia Gas Transmission, LLC (Columbia) filed an application to amend the certificate issued under section 7 of the Natural Gas Act to revise initial rates and estimated costs and revise certain exhibits in the Order Issuing Certificates and Approving Abandonment dated January 14, 2008, 122 FERC ¶ 61,021, in this proceeding.

Any questions regarding this application should be directed to counsel for Columbia, Frederic J. George, Columbia Gas Transmission, LLC, P.O. Box 1273, Charleston, WV 25325-1273; telephone: (304) 357-2359, fax (304) 357-3206; e-mail: fgeorge@nisource.com.

Any person desiring to intervene or to protest in any of the above proceeding must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive email notification when a document is added to a subscribed dockets(s). For assistance with any FERC Online service, please e-mail FERCOnlineSupport@ferc.gov or call (866) 208-3676 (toll free). For TTY, call (202) 502-8659.

Comment Date: 5 p.m. Eastern Time on Monday, February 23, 2009.

Kimberly D. Bose,
Secretary.

[FR Doc. E9-3448 Filed 2-18-09; 8:45 am]

BILLING CODE 6717-01-P